DEPARTMENT OF AGRICULTURE

Agricultural Marketing Service

7 CFR Part 1290

[Docket No. FV06-1290-1 PR]

RIN 0581-AC59

Specialty Crop Block Grant Program; Notice of Request for Approval of a New Information Collection

AGENCY: Agricultural Marketing Service, USDA.

ACTION: Proposed rule with request for comments.

SUMMARY: The Agricultural Marketing Service (AMS) is proposing regulations to administer the Specialty Crop Block Grant Program (SCBGP) to enhance the competitiveness of specialty crops. This proposed rule is intended to establish eligibility and application requirements, the review and approval process, and grant administration procedures for the SCBGP.

The SCBGP would be implemented under section 101 of the Specialty Crops Competitiveness Act of 2004 (7 U.S.C. 1621 note). This rule also announces the Agricultural Marketing Service's intention to request approval by the Office of Management and Budget (OMB) of the new information collection requirements necessary to implement the SCBGP.

DATES: Comments received by May 22, 2006, will be considered prior to issuance of a final rule. Pursuant to the Paperwork Reduction Act, comments on the information collection burden that would result from this proposal must be received by June 19, 2006.

ADDRESSES: Interested persons are invited to submit written comments concerning this action. Comments must be sent to the Docket Clerk, Fruit and Vegetable Programs, AMS, USDA, 1400 Independence Avenue, SW., Stop 0243, Washington, DC 20250-0243; Fax: (202) 690-0102; E-mail: scblockgrants@usda.gov; or Internet: http://www.regulations.gov. Comments concerning the information collection requirements should be sent to the Office of Information and Regulatory Affairs, OMB: Attention: Desk Officer for AMS, Washington, DC 20503. Please state that your comments refer to Docket No. FV06-1290-1 PR. Comments concerning the information requirements also should be sent to the Docket Clerk at the above address. Comments shall reference docket number FV06-1290-1 PR and the date and page number of this issue of the Federal Register and will be available for public inspection in the Office of the Docket Clerk during regular business hours, or can be viewed at: http://www.ams.usda.gov/fv/scbgp.html.

FOR FURTHER INFORMATION CONTACT: Trista Etzig, Fruit and Vegetable Programs, AMS, USDA, 1400 Independence Avenue, SW., Stop 0243, Washington, DC 20250-0243; Telephone: (202) 690-4942; Fax: (202) 690-0102; or E-mail: trista.etzig@usda.gov.

SUPPLEMENTARY INFORMATION:

Executive Order 12866

This proposed rule has been determined to be not significant for the purposes of Executive Order 12866 and therefore has not been reviewed by the Office of Management and Budget (OMB).

Public Law 104-4

Title II of the Unfunded Mandates Reform Act of 1995 (UMRA), Public Law 104-4, establishes requirements for Federal agencies to assess the effects of their regulatory actions on State and local governments and the private sector. Under section 202 of the UMRA, the Agricultural Marketing Service (AMS) generally must prepare a written statement, including a cost-benefit analysis, for proposed and final rules with “Federal mandates” that may result in expenditures by State and local governments, in the aggregate, or by the private sector, of $100 million or more in any one year (2 U.S.C. 1532). When such a statement is needed for a rule, section 205 of the UMRA generally requires Federal agencies to identify and consider a reasonable number of regulatory alternatives and adopt the least costly, most cost-effective, or least burdensome alternative that achieves the objectives of the rule (2 U.S.C. 1535).

This rule contains no Federal mandates (under the regulatory provisions of Title II of the UMRA) for State and local governments or the private sector of $100 million or more in any one year. Therefore, this rule is not subject to the requirements of sections 202 and 205 of the UMRA.

Executive Order 12988

This rule has been reviewed under Executive Order 12988, Civil Justice Reform. This action is not intended to have retroactive effect. This rule will not preempt any state or local laws, regulations or policies, unless they present an irreconcilable conflict with this rule. There are no administrative procedures which must be exhausted prior to any judicial challenge to the provisions of this rule.

Catalog of Federal Domestic Assistance

This program is listed in the Catalog of Federal Domestic Assistance under No. 10.169, Specialty Crop Block Grant Program.

Executive Order 12372

This program is not subject to the provisions of Executive Order 12372, which requires intergovernmental consultation with State and local officials. See the Notice related to 7 CFR part 3015, subpart V published at 48 FR 29115 (June 24, 1983).

Executive Order 12612

It has been determined that this rule does not have sufficient Federalism implications to warrant the preparation of a Federalism Assessment. The provisions contained in this rule would not have a substantial direct effect on States or their political subdivisions or on the distribution of power and responsibilities among the various levels of government.

Regulatory Flexibility Act

The Agricultural Marketing Service certifies that this rule will not have a significant impact on a substantial number of small entities as defined in the Regulatory Flexibility Act, Public Law 96-534, as amended (5 U.S.C. 601 et seq.). This rule only will impact State departments of agriculture that apply for grant funds. States include the fifty States, the District of Columbia, and the Commonwealth of Puerto Rico. The States are not small entities under the Act.

Authority for a Specialty Crop Block Grant Program

The proposed program is intended to accomplish the goals of increasing fruit, vegetable, and nut consumption and improving the competitiveness of United States specialty crop producers. The SCBGP is authorized under section 101 of the Specialty Crops Competitiveness Act of 2004 (7 U.S.C. 1621 note). Section 101 directs the Secretary of Agriculture to make grants to States for each of the fiscal years 2005 through 2009 to be used by State departments of agriculture solely to enhance the competitiveness of specialty crops.

This proposal also invites comments on the reporting and recordkeeping provisions that would be generated by this proposed rule. The information collection and recordkeeping requirements associated with this proposed rule are explained in more detail in the Paperwork Reduction Act section of this rule.

Background

The Fruit and Vegetable Program will periodically announce that applications may be submitted for participation in a “Specialty Crop Block Grant Program” (SCBGP), which will be administered by personnel of the Agricultural Marketing Service (AMS).

Periodically, funding would be appropriated to the Secretary of Agriculture to provide specialty crop block grants. To the extent that funds are available, each year the AMS will publish a Federal Register notice announcing the program and soliciting grant applications.

Subject to the appropriation of funds, each State that applies is to receive at least $100,000 to enhance the competitiveness of specialty crops. In addition, each State will receive an amount that represents the proportion of the value of specialty crop production in the state in relation to the national value of specialty crop production using the latest available complete specialty crop production data set in all states whose applications are accepted. All 50 States, the District of Columbia, and the Commonwealth of Puerto Rico are eligible to participate.

“Specialty crops” for the purpose of this rule, means fruits and vegetables, tree nuts, dried fruits, and nursery crops (including floriculture). SCBGP applications will be accepted from any State department of agriculture, including the agency, commission, or department of a State government responsible for agriculture within the State.

Section 1290.6 prescribes the application procedure that includes a State plan to indicate how grant funds will be utilized to enhance the competitiveness of specialty crops using measurable expected outcomes. Applications can be submitted for projects up to 3 calendar years in length. Applicants wishing to serve multi-state projects must submit one application by the State assuming the coordinating role.

Section 1290.8 prescribes that under the SCBGP program, the AMS will enter into agreements with those State departments of agriculture whose applications have been approved. The State department of agriculture will assure that the State will comply with the requirements of the State plan. The State department of agriculture will also assure that funds shall supplement the expenditure of State funds in support of specialty crops grown in that State, rather than replace State funds.

The AMS will provide the entire funding to the approved applicants by a one-time combined electronic transfer. SCBGP participants must deposit funds in insured, interest-bearing accounts and remit to AMS interest earned in accordance with 7 CFR 3015 and 3016.

Section 1290.9 prescribes the reporting and oversight requirements. If the grant period is more than one year, State departments of agriculture are required to submit an annual performance report(s) and a final performance report evaluating their project(s) using the measurable outcomes presented in the State plan, as well as a final financial report. If the grant period is less than a year, State departments of agriculture are required to submit a final performance report and a final financial report.

Section 1290.10 prescribes the audit requirements of the State. The State is required to conduct an audit of the expenditures of SCBGP funds in accordance with Government Auditing Standards not later than 60 days after expiration of the grant period. Not later than 30 days after completion of the audit, the State shall submit a copy of the audit results with an executive summary to AMS.

AMS is inviting comments on the proposed rule, especially on the definition of “enhancing the competitiveness” of specialty crops, and on how to incorporate outcome measures into the State plan.

Paperwork Reduction Act

In accordance with the Paperwork Reduction Act of 1995 (44 U.S.C. 3501 et seq.), the AMS announces its intention to request approval by OMB of a new information collection.

Title: Specialty Crop Block Grant Program.

OMB Number: 0581-New.

Type of Request: New Information Collection.

Expiration Date of Approval: 3 years from date of OMB approval.

Abstract: The information collection requirements in this request are applied only to those State departments of agriculture who voluntarily participate in the SCBGP. The information collected is needed for the implementation of the SCBGP, to determine a State department of agriculture's eligibility in the program, and to certify that grant participants are complying with applicable program regulations. Data collected is the minimum information necessary to effectively carry out the requirements of the program, and to fulfill the intent of section 101 of the Competitiveness Act of 2004.

State departments of agriculture who wish to participate in the SCBGP would have to submit standard form SF-424, “Application for Federal Assistance”, approved under OMB#4040-0004. After receipt of the SF-424, the State department of agriculture would have to submit SF-424B, “Assurances-Non-Construction Programs”, approved under OMB#0348-0040 as part of the grant agreement to the AMS. The State department of agriculture would then submit to the AMS 90 days after the expiration date of the grant period SF269 “Financial Status Report (Long Form)”, if the project had program income, approved under OMB#0348-0039, or SF269A “Financial Status Report (Short Form)”, approved under OMB#0348-0038.

Completed applications must also include a State plan to show how grant funds will be utilized to enhance the competitiveness of specialty crops.

Estimate of Burden: Public reporting burden for this collection of information is estimated to average 3 hours per response.

Respondents: State departments of agriculture.

Estimated Number of Respondents: 52 (All 50 states, Puerto Rico, and the District of Columbia).

Estimated Number of Responses: 52.

Estimated Number of Responses per Respondent: 1.

Estimated Total Annual Burden on Respondents: 156 hours.

After approval of a grant application, State departments of agriculture would have to enter into a grant agreement with AMS by reading and signing the grant agreement.

Estimate of Burden: Public reporting burden for this collection of information is estimated to average .083 hours per response.

Respondents: State departments of agriculture.

Estimated Number of Respondents: 52 (All 50 states, Puerto Rico, and the District of Columbia).

Estimated Number of Responses: 52.

Estimated Number of Responses per Respondent: 1.

Estimated Total Annual Burden on Respondents: 4.32 hours.

On average, AMS does not expect a grant period to go beyond three calendar years, so State departments of agriculture would have to submit to AMS annual performance reports within 90 days after the first year of the grant agreement and within 90 days after the second year of the grant agreement.

Estimate of Burden: Public reporting burden for this collection of information is estimated to average 1 hour per response.

Respondents: State departments of agriculture.

Estimated Number of Respondents: 52 (All 50 states, Puerto Rico, and the District of Columbia).

Estimated Number of Responses: 52.

Estimated Number of Responses per Respondent: 2.

Estimated Total Annual Burden on Respondents: 104 hours.

If the grant period goes beyond 3 calendar years, a State department of agriculture would have to submit a letter to AMS requesting a grant period extension.

Estimate of Burden: Public reporting burden for this collection of information is estimated to average 0.17 hours per response.

Respondents: State departments of agriculture.

Estimated Number of Respondents: 5 (10% of the 52 respondents).

Estimated Number of Responses: 5.

Estimated Number of Responses per Respondent: 1.

Estimated Total Annual Burden on Respondents: 0.85 hours.

A State department of agriculture would have to submit a final performance report to AMS within 90 days following the expiration date of the grant period.

Estimate of Burden: Public reporting burden for this collection of information is estimated to average 1.5 hours per response.

Respondents: State departments of agriculture.

Estimated Number of Respondents: 52 (All 50 states, Puerto Rico, and the District of Columbia).

Estimated Number of Responses: 52.

Estimated Number of Responses per Respondent: 1.

Estimated Total Annual Burden on Respondents: 78 hours.

No later than 60 days after expiration of the grant period, a State would be required to conduct an audit of SCBGP grant funds. An audit report/executive summary would be required to be submitted to AMS no later than 30 days after completion of the audit.

Estimate of Burden: Public reporting burden for this collection of information is estimated to average 3 hours per response.

Respondents: State departments of agriculture.

Estimated Number of Respondents: 52 (All 50 states, Puerto Rico, and the District of Columbia).

Estimated Number of Responses: 52.

Estimated Number of Responses per Respondent: 1.

Estimated Total Annual Burden on Respondents: 156 hours.

The SCBGP is expected to accomplish the goals of increasing fruit, vegetable, and nut consumption and improving the competitiveness of United States specialty crop producers.

This program would not be maintained by any other agency, therefore, the requested information will not be available from any other existing records.

AMS is committed to compliance with the Government Paperwork Elimination Act (GPEA), which requires Government agencies in general to provide the public the option of submitting information or transacting business electronically to the maximum extent possible. The SF forms and State plan can be filled out electronically and printed out for submission or filled out electronically and submitted as an attachment through Grants.gov. The annual performance reports, final performance report, and the audit report/executive summary can be submitted electronically. The grant agreement requires an original signature and can be submitted by mail.

Finally, State departments of agriculture would be required to retain records pertaining to the SCBGP for 3 years after completion of the grant period or until final resolution of any audit findings or litigation claims relating to the SCBGP. This is a part of normal business practice and consistent with USDA regulations (7 CFR parts 3015 and 3016).

The estimated one-time cost for all State departments of agriculture in completing the State plan is $9,980. This total cost was calculated by multiplying the estimated 499 total burden hours by $20 per hour (a sum deemed reasonable, shall the respondents be compensated for this time).

Comments are invited on: (1) Whether the proposed collection of information is necessary for the proper performance of the functions of the agency, including whether the information will have practical utility; (2) the accuracy of the agency's estimate of the burden of the proposed collection of information including the validity of the methodology and assumptions used; (3) ways to enhance the quality, utility, and clarity of the information to be collected; and (4) ways to minimize the burden of the collection of information on those who are to respond, including the use of appropriate automated, electronic, mechanical, or other technological collection techniques or other forms of information technology.

All comments concerning the information collection shall reference the docket number and the date and page number of this issue of the Federal Register. Comments concerning the information collection requirements should be sent to the office of Information and Regulatory Affairs, OMB: Attention: Desk Officer for AMS, Washington, DC 20503. Please state that your comments refer to Docket No. FV06-1290-1 PR. Comments may also be sent to Docket Clerk, Fruit and Vegetable Programs, Agricultural Marketing Service, U.S. Department of Agriculture, Stop 0243, 1400 Independence Avenue, SW., Washington, DC 20250-0243; Fax: (202) 690-0102; or E-mail: scblockgrants@usda.gov. Comments received will be available for public inspection during regular business hours at the same address. All responses to this notice will be summarized and included in the request for OMB approval. All comments will also become a matter of public record.

A 60-day comment period is provided to allow interested persons to respond to this proposed information collection. A 30-day period is provided concerning comments addressing the provisions of this proposed rule. This period is deemed appropriate in order to proceed with final regulations, if adopted, that will enable application processing and approval of grants during this fiscal year.

List of Subjects in 7 CFR Part 1290

Specialty crop block grants, Agriculture, Reporting and recordkeeping requirements.

For the reasons set forth in the preamble, and under authority of 7 U.S.C. 1621 note and Public Law 108-465, 7 CFR chapter 1290 is proposed to be amended as set forth below:

1. A new part 1290 is added to read as follows:

PART 1290—SPECIALTY CROP BLOCK GRANT PROGRAM

Sec.
1290.1 Purpose.
1290.2 Definitions.
1290.3 Eligible grant applicants.
1290.4 Eligible grant project.
1290.5 Restrictions and limitations on grant funds.
1290.6 Completed application.
1290.7 Review of grant applications.
1290.8 Grant agreements.
1290.9 Reporting and oversight requirements.
1290.10 Audit requirements.

Authority: 7 U.S.C. 1621 note.

§ 1290.1 Purpose.

Pursuant to the authority conferred by section 101 of the Specialty Crops Competitiveness Act of 2004 (7 U.S.C. 1621 note), AMS will make grants to States to enhance the competitiveness of specialty crops in accordance with the terms and conditions set forth herein and other applicable federal statutes and regulations including, but not limited to, 7 CFR part 3016.

§ 1290.2 Definitions.

(a) AMS means the Agricultural Marketing Service of the U.S. Department of Agriculture.

(b) Application means application for Specialty Crop Block Grant Program.

(c) Grant period means the period of time from when the grant agreement is signed to the completion of all SCBGP projects.

(d) Outcome measure means an event or condition that is external to the project and that is of direct importance to the intended beneficiaries and/or the public.

(e) Project means all proposed activities to be funded by the SCBGP.

(f) Specialty crop means fruit and vegetables, tree nuts, dried fruits, and nursery crops (including floriculture).

(g) State means the fifty States, the District of Columbia, and the Commonwealth of Puerto Rico.

(h) State department of agriculture means the agency, commission, or department of a State government responsible for agriculture within the State.

§ 1290.3 Eligible grant applicants.

Eligible grant applicants are State departments of agriculture from the fifty states, the District of Columbia, and the Commonwealth of Puerto Rico

§ 1290.4 Eligible grant project.

(a) To be eligible for a grant, the project(s) must enhance the competitiveness of specialty crops. Priority will be given to fresh specialty crop projects.

(b) To be eligible for a grant, the project(s) must be completed 3 calendar years after the grant agreement prescribed in section 1290.8 is signed. However, for cause, an extension of that deadline may be granted by AMS on a case by case basis with a written request from the State.

§ 1290.5 Restrictions and limitations on grant funds.

(a) Grant funds may not be used to fund political activities in accordance with provisions of the Hatch Act (5 U.S.C. 1501-1508 and 7324-7326).

(b) All travel expenses associated with SCBGP projects must follow Federal Travel Regulations (41 CFR Chapters 300-304) unless State travel requirements are in place.

(c) Grant funds shall supplement the expenditure of State funds in support of specialty crops grown in that State, rather than replace State funds.

§ 1290.6 Completed application.

Completed applications shall be clear and succinct and shall include the following documentation satisfactory to AMS.

(1) Completed applications must include an SF-424 “Application for Federal Assistance”.

(2) Completed applications must also include a State plan to show how grant funds will be utilized to enhance the competitiveness of specialty crops. The state plan shall include the following:

(i) Cover page. Include the lead agency for administering the plan and an abstract of 200 words or less for each proposed project.

(ii) Project purpose. Clearly state the specific issue, problem, interest, or need to be addressed. Explain why each project is important and timely.

(iii) Potential Impact. Discuss the number of people or operations affected, the intended beneficiaries of each project, and/or potential economic impact if such data are available and relevant to the project(s).

(iv) Financial Feasibility. For each project, provide budget estimates for the total project cost. Indicate what percentage of the budget covers administrative costs.

(v) Expected Measurable Outcomes. Describe at least two or three, discrete, quantifiable, and measurable outcomes that directly and meaningfully support each projects purpose. The outcome measures must define an event or condition that is external to the project and that is of direct importance to the intended beneficiaries and/or the public.

(vi) Goal(s). Describe the overall goal(s) in one or two sentences for each project.

(vii) Work Plan. Explain briefly how each goal and measurable outcome will be accomplished for each project. Be clear about who will do the work. Include appropriate time lines.

(viii) Project Oversight. Describe the oversight practices that provide sufficient knowledge of grant activities to ensure proper and efficient administration.

(ix) Project Commitment. Describe how all grant partners commit to and work toward the goals and outcome measures of the proposed project(s).

(x) Multi-state Projects. If the project is a multi-state project, describe how the States are going to collaborate effectively with related projects with one state assuming the coordinating role.

§ 1290.7 Review of grant applications.

(a) Applications will be reviewed and approved for conformance with the provisions in § 1290.6. AMS may contact the applicant for additional information or clarification.

(b) Incomplete applications as of the deadline for submission will not be considered.

§ 1290.8 Grant agreements.

(a) After approval of a grant application, AMS will enter into a grant agreement with the State department of agriculture.

(b) AMS grant agreements will include at a minimum the following:

(1) The activities in the approved State plan.

(2) Total amount of Federal financial assistance that will be advanced.

(3) Terms and conditions pursuant to which AMS will fund the project(s).

§ 1290.9 Reporting and oversight requirements.

(a) An annual performance report will be required of all State department's of agriculture within 90 days after the completion of the first year of the project(s), until the expiration date of the grant period. If the grant period is one year or less, then only a final performance report (see paragraph (b) of this section) is required. The annual performance report shall include the following:

(1) Briefly summarize activities performed, targets, and/or performance goals achieved during the reporting period to meet project outcome measures.

(2) Note unexpected delays or impediments as well as favorable or unusual developments.

(3) Outline work to be performed during the next reporting period.

(4) Comment on the level of grant funds expended to date.

(b) A final performance report will be required by the State department of agriculture within 90 days following the expiration date of the grant period. The final progress report shall include the following:

(1) An outline of the issue, problem, interest, or need.

(2) How the issue or problem was approached via the project.

(3) How the annual outcome measures of the project were achieved.

(4) Results, conclusions, and lessons learned.

(5) How progress has been made to achieve long term outcome measures.

(6) Additional information available (e.g. publications, Web sites).

(7) Contact person for each project with telephone number and e-mail address.

(c) A final SF-269A “Financial Status Report (Short Form)” (SF-269 “Financial Status Report (Long Form)” if the project(s) had program income) is required within 90 days following the expiration date of the grant period.

(d) AMS will monitor States, as it determines necessary, to assure that projects are completed in accordance with the approved State plan. If AMS, after reasonable notice to a State, finds that there has been a failure by the State to comply substantially with any provision or requirement of the State plan, AMS may disqualify, for one or more years, the State from receipt of future grants under the SCBGP.

(e) States shall diligently monitor performance to ensure that time schedules are being met, project work within designated time periods is being accomplished, and other performance measure are being achieved.

§ 1290.10 Audit requirements.

Each year that a State receives a grant under the SCBGP, a State is required to conduct an audit of the expenditures of SCBGP funds in accordance with Government auditing Standards (Government Auditing Standards 2003 Revision GAO-03-673G). The audit shall be conducted no later than 60 days after the expiration date of the grant period. The State shall submit to AMS not later than 30 days after completion of the audit, a copy of the audit results with an executive summary.

Dated: April 14, 2006.
Lloyd C. Day,
Administrator, Agricultural Marketing Service.

[FR Doc. E6-5944 Filed 4-19-06; 8:45 am]

BILLING CODE 3410-02-P